DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the Missouri River (South Dakota) Task Force (“the Task Force”).

FOR FURTHER INFORMATION CONTACT: Jim Freeman, Advisory Committee Management Officer for the Department of Defense, 703-692-5952.

SUPPLEMENTARY INFORMATION: This committee's charter is being renewed pursuant to section 905(a) of the Missouri River Restoration Act of 2000 (“the Missouri River Restoration Act”) (Title IX of Pub. L. 106-541, the Water Resources Development Act of 2000) and in accordance with the Federal Advisory Committee Act (FACA) of 1972 (5 U.S.C., Appendix, as amended) and 41 CFR 102-3.50(a).

The Task Force is a non-discretionary Federal advisory committee that shall provide independent advice and recommendations to the Secretary of the Army on plans and projects to reduce siltation of the Missouri River in the State of South Dakota and to meet the objectives of the Pick-Sloan Missouri River Basin Program authorized by section 9 of the Flood Control Act of December 22, 1944 (58 Stat. 891). Specifically, the Task Force shall:

a. Prepare and approve, by a majority of the members, a plan for the use of the funds made available under the Missouri River Restoration Act, to promote:

i. Conservation practices in the Missouri River watershed;

ii. the general control and removal of sediment from the Missouri River;

iii. the protection of recreation on the Missouri River from sedimentation;

iv. the protection of Indian and non-Indian historical and cultural sites along the Missouri River from erosion;

v. erosion control along the Missouri River; or

vi. any combination of the activities just described;

b. Review projects to meet the goals of the plan and recommend, to the Secretary of the Army, critical restoration projects for implementation; and

c. Determine whether these critical restoration projects primarily benefit the Federal Government for purposes of cost-sharing.

The Task Force may, on an annual basis, revise the plan and shall provide the public with the opportunity to review and comment on any proposed revision to the plan.

The Task Force shall report to the Secretary of the Army and the U.S. Army Corps of Engineers. The Secretary of the Army may act upon the Task Force's advice and recommendations. As prescribed by sections 904 and 905(b) of the Missouri River Act, the Task Force shall be composed of 29 members. Specifically, the Task Force membership shall be composed of the Secretary of the Army or designee, who shall serve as the Chairperson; Secretary of Agriculture or designee; Secretary of Energy or designee; Secretary of the Interior or designee; and the Trust. The Trust is composed of 25 members to be appointed by the Secretary of the Army, including 15 members recommended by the Governor of South Dakota that represent equally the various interest of the public and include representatives of: The South Dakota Department of Environment and Natural Resources; the South Dakota Department of Game, Fish, and Parks; environmental groups; the hydroelectric power industry; local governments; recreation user groups; agricultural groups; other appropriate interests; nine members, one of each of whom shall be recommended by each of the nine Indian Tribes in the State of South Dakota; and one member recommended by the organization known as the “Three Affiliated Tribes of North Dakota” (composed of the Mandan, Hidatsa, and Arikara tribes).

The members of the Trust shall be appointed by the Secretary of the Army, in consultation with the Secretary of Defense or the Deputy Secretary of Defense, to serve as representative members to the Task Force pursuant to 41 CFR 102-3.130(a). Those individuals who are full-time or permanent part-time Federal officers or employees shall be appointed to serve as regular government employee (RGE) members pursuant to 41 CFR 102-3.130(a).

All representative members of the Trust shall be appointed for a two-year term of service; and no member, unless authorized by the Secretary of Defense upon request of the Secretary of the Army, may serve more than two consecutive terms of service. In addition, all Task Force members shall serve without compensation, with the exception of reimbursement for official Task Force-related travel and per diem.

The Department of Defense (DoD), when necessary and consistent with the Task Force's mission and DoD policies and procedures, may establish subcommittees, task groups, and working groups to support the Task Force. Establishment of subcommittees will be based upon a written determination, to include terms of reference, by the Secretary of Defense, the Deputy Secretary of Defense, or the Secretary of the Army, as the Task Force's Sponsor.

Such subcommittees shall not work independently of the Task Force and shall report all of their recommendations and advice solely to the Task Force for full and open deliberation and discussion. Subcommittees, task forces, or working groups have no authority to make decisions and recommendations, verbally or in writing, on behalf of the Task Force. No subcommittee or any of its members can update or report, verbally or in writing, on behalf of the Task Force, directly to the DoD or any Federal officers or employees.

The Secretary of Defense or the Deputy Secretary of Defense may approve the appointment of subcommittee members for a two-year term of service, with annual renewals; however, no member, unless authorized by the Secretary of Defense, may serve more than two consecutive terms of service. These individuals may come from the Task Force or may be new nominees, as recommended by the Secretary of the Army and based upon the subject matters under consideration.

Subcommittee members, if not full-time or permanent part-time Federal employees, shall be appointed as experts or consultants pursuant to 5 U.S.C. 3109 to serve as special government employee members. Those individuals who are full-time or permanent part-time Federal officers or employees shall be appointed pursuant to 41 CFR 102-3.130(a) to serve as RGE members. With the exception of reimbursement for official Task Force-related travel and per diem, subcommittee members shall serve without compensation.

Each subcommittee member is appointed to provide advice to the Government on the basis of his or her best judgment without representing any particular point of view and in a manner that is free from conflict of interest.

All subcommittees operate under the provisions of the FACA, the Sunshine Act, governing Federal statutes and regulations, and established DoD policies and procedures.

The estimated number of Task Force meetings is no less than two per year.

The Task Force's Designated Federal Officer (DFO), pursuant to DoD policy, shall be a full-time or permanent part-time DoD employee appointed in accordance with governing DoD policies and procedures.

The Task Force's DFO is required to be in attendance at all meetings of the Task Force and any of its subcommittees for the entire duration of each and every meeting. However, in the absence of the Task Force's DFO, a properly approved Alternate DFO, duly appointed to the Task Force according to established DoD policies and procedures, shall attend the entire duration of the Task Force or any subcommittee meeting.

The DFO, or the Alternate DFO, shall call all meetings of the Task Force and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Missouri River (SD) Task Force membership about the Task Force's mission and functions. Written statements may be submitted at any time or in response to the stated agenda of planned meeting of the Missouri River (SD) Task Force.

All written statements shall be submitted to the DFO for the Missouri River (SD) Task Force, and this individual will ensure that the written statements are provided to the membership for their consideration. Contact information for the Missouri River (SD) Task Force DFO can be obtained from the GSA's FACA Database— http://www.facadatabase.gov/.

The DFO, pursuant to 41 CFR 102-3.150, will announce planned meetings of the Missouri River (SD) Task Force. The DFO, at that time, may provide additional guidance on the submission of written statements that are in response to the stated agenda for the planned meeting in question.

Dated: February 20, 2015.
Aaron Siegel,
Alternate OSD Federal Register, Liaison Officer, Department of Defense.

[FR Doc. 2015-03942 Filed 2-25-15; 8:45 am]

BILLING CODE 5001-06-P